NUCLEAR REGULATORY COMMISSION

10 CFR Part 72

[NRC-2025-1369]

RIN 3150-AL55

List of Approved Spent Fuel Storage Casks: TN Americas LLC, NUHOMS® EOS Dry Spent Fuel Storage System, Certificate of Compliance No. 1042, Amendment No. 5

AGENCY: Nuclear Regulatory Commission.

ACTION: Direct final rule.

SUMMARY: The U.S. Nuclear Regulatory Commission (NRC) is amending its spent fuel storage regulations by revising the TN Americas LLC, NUHOMS® Extended Optimized Storage (EOS) Dry Spent Fuel Storage System listing within the “List of approved spent fuel storage casks” to include Amendment No. 5 to Certificate of Compliance (CoC) No. 1042. Amendment No. 5 revises the CoC to add a new heat load zone configuration (HLZC) for the EOS-37PTH canister, increasing the maximum heat load to 54 kW per dry shielded canister (DSC) for storage in the EOS-Horizontal Storage Module (HSM) and transfer using EOS-Transfer Casks (TC)125/135; clarifies acceptance criteria for minor surface imperfections on high strength low-alloy (HSLA) basket plates in the Updated Final Safety Analysis Report (UFSAR); and makes editorial updates to the UFSAR and Technical Specification (TS) revisions to align with Amendment No. 4, improve readability, and correct code references.

DATES: This direct final rule is effective April 13, 2026, unless significant adverse comments are received by February 27, 2026. If this direct final rule is withdrawn as a result of such comments, timely notice of the withdrawal will be published in the Federal Register. Comments received after this date will be considered if it is practical to do so, but the NRC is able to ensure consideration of only comments received on or before this date. Comments received on this direct final rule will also be considered to be comments on a companion proposed rule published in the Proposed Rules section of this issue of the Federal Register.

ADDRESSES: Submit your comments, identified by Docket ID NRC-2025-1369, at https://www.regulations.gov. If your material cannot be submitted using https://www.regulations.gov, call or email the individual listed in the FOR FURTHER INFORMATION CONTACT section of this document for alternate instructions.

You can read a plain language description of this direct final rule at https://www.regulations.gov/docket/NRC-2025-1369. For additional direction on obtaining information and submitting comments, see “Obtaining Information and Submitting Comments” in the SUPPLEMENTARY INFORMATION section of this document.

FOR FURTHER INFORMATION CONTACT: Amy McKenna, U.S. Nuclear Regulatory Commission, Washington, DC 20555-0001; email: amy.mckenna@nrc.gov.

SUPPLEMENTARY INFORMATION:

Table of Contents

I. Obtaining Information and Submitting Comments

II. Rulemaking Procedure

III. Background

IV. Discussion of Changes

V. Voluntary Consensus Standards

VI. Agreement State Compatibility

VII. Plain Writing

VIII. Environmental Assessment and Finding of No Significant Impact

IX. Paperwork Reduction Act Statement

X. Regulatory Flexibility Certification

XI. Regulatory Analysis

XII. Backfitting and Issue Finality

XIII. Regulatory Planning and Review

XIV. Congressional Review Act

XV. Availability of Documents

I. Obtaining Information and Submitting Comments

A. Obtaining Information

Please refer to Docket ID NRC-2025-1369 when contacting the NRC about the availability of information for this action. You may obtain publicly available information related to this action by any of the following methods:

• Federal Rulemaking Website: Go to https://www.regulations.gov and search for Docket ID NRC-2025-1369. Address questions about NRC dockets to Helen Chang, telephone: 301-415-3228, email: Helen.Chang@nrc.gov. For technical questions contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

B. Submitting Comments

The NRC encourages electronic comment submission through the Federal rulemaking website (https://www.regulations.gov). Please include Docket ID NRC-2025-1369 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Rulemaking Procedure

The NRC is using the “direct final rule procedure” to issue this amendment because this action represents a limited and routine change to an existing certificate of compliance (CoC) that is expected to be non-controversial and, accordingly, is unlikely to result in significant adverse public comments. Adequate protection of public health and safety continues to be reasonably assured. The amendment to the rule will become effective on April 13, 2026. However, if the NRC receives significant adverse comments on this direct final rule by February 27, 2026, then the NRC will publish a document that withdraws this action and will subsequently address the comments received in a final rule as a response to the companion proposed rule published in the Proposed Rules section of this issue of the Federal Register or as otherwise appropriate. In general, absent significant modifications to the proposed revisions requiring republication, the NRC will not initiate a second comment period on this action.

A significant adverse comment is a comment where the commenter explains why the rule would be inappropriate, including challenges to the rule's underlying premise or approach, or would be ineffective or unacceptable without a change. A comment is adverse and significant if:

(1) The comment opposes the rule and provides a reason sufficient to require a substantive response in a notice-and-comment process. For example, a substantive response is required when:

(a) The comment causes the NRC to reevaluate (or reconsider) its position or conduct additional analysis;

(b) The comment raises an issue serious enough to warrant a substantive response to clarify or complete the record; or

(c) The comment raises a relevant issue that was not previously addressed or considered by the NRC.

(2) The comment proposes a change or an addition to the rule, and it is apparent that the rule would be ineffective or unacceptable without incorporation of the change or addition.

(3) The comment causes the NRC to make a change (other than editorial) to the rule, CoC, or TS.

For detailed instructions on filing comments, please see the ADDRESSES section of this document.

III. Background

Section 218(a) of the Nuclear Waste Policy Act of 1982, as amended, requires that “[t]he Secretary [of the Department of Energy] shall establish a demonstration program, in cooperation with the private sector, for the dry storage of spent nuclear fuel at civilian nuclear power reactor sites, with the objective of establishing one or more technologies that the [Nuclear Regulatory] Commission may, by rule, approve for use at the sites of civilian nuclear power reactors without, to the maximum extent practicable, the need for additional site-specific approvals by the Commission.” Section 133 of the Nuclear Waste Policy Act states, in part, that “[t]he Commission shall, by rule, establish procedures for the licensing of any technology approved by the Commission under section 219(a) [sic: 218(a)] for use at the site of any civilian nuclear power reactor.”

To implement this mandate, the Commission approved dry storage of spent nuclear fuel in NRC-approved casks under a general license by publishing a final rule that added a new subpart K in part 72 of title 10 of the Code of Federal Regulations (10 CFR) entitled “General License for Storage of Spent Fuel at Power Reactor Sites” (55 FR 29181; July 18, 1990). This rule also established a new subpart L in 10 CFR part 72 entitled “Approval of Spent Fuel Storage Casks,” which contains procedures and criteria for obtaining NRC approval of spent fuel storage cask designs. The NRC subsequently issued a final rule on March 24, 2017 (82 FR 14987), that approved the TN Americas LLC, NUHOMS® EOS Dry Spent Fuel Storage System design and added it to the list of NRC-approved cask designs in § 72.214 as CoC No. 1042.

This rule is limited to the changes contained in Amendment No. 5 to CoC No. 1042 and does not include other aspects of the TN Americas LLC, NUHOMS® EOS Dry Spent Fuel Storage System design.

IV. Discussion of Changes

On February 26, 2025, (ADAMS Accession No. ML25057A456), as supplemented on August 28, 2025 (ML25240B483), TN Americas LLC submitted a request to the NRC to amend CoC No. 1042 to make the following changes:

• Addition of a new HLZC for the EOS-37PTH, HLZC 14, which allows an increase in the maximum heat load of the EOS-37PTH to 54 kW per DSC for storage in the EOS-HSM and transfer operations in the EOS-TC125/135. HLZC 14 is only permitted in Basket Type 4HA introduced in Amendment No. 4 to CoC No. 1042 with anodized aluminum. No physical changes are considered for this basket type in this application. An optional support spacer is considered for the flat plate variant of EOS-HSM as described in the application.

• Clarification regarding acceptance criteria for minor surface imperfections on HSLA basket plates within the UFSAR.

• Editorial corrections:

• Revision of Section 2.4.2.1 of the UFSAR has been revised to clarify that the heat load for any single assembly is 4.3 kW for the EOS-37PTH DSC. This is an editorial correction based on HLZC 12 included as part of application for Amendment No. 4 to CoC No. 1042.

• Revision of Note 3 of figure 2-3m (HLZC 13 for the EOS-37PTH DSC) to enhance readability.

• Revision of TS figures 1A and 1J to clarify the location of HLZC 1 and 10 for EOS-37PTH.

• Editorial changes in TS section 4.4.4 to refer to the correct section of ASME code section NB-5520 that relates to qualification requirements.

The changes to the aforementioned documents are identified with revisions bars in the margin of each document.

As documented in the preliminary safety evaluation report, the NRC performed a safety evaluation of the proposed CoC amendment request. The NRC determined that this amendment does not reflect a significant change in design or fabrication of the cask. Specifically, the NRC determined that the design of the cask would continue to maintain confinement, shielding, and criticality control in the event of each evaluated accident condition. In addition, any resulting occupational exposure or offsite dose rates from the implementation of Amendment No. 5 would remain well within the limits specified by 10 CFR part 20, “Standards for Protection Against Radiation.” Therefore, the NRC found there will be no significant change in the types or amounts of any effluent released, no significant increase in the individual or cumulative radiation exposure, and no significant increase in the potential for or consequences from radiological accidents.

The NRC determined that the amended TN Americas LLC, NUHOMS® EOS Dry Spent Fuel Storage System cask design, when used under the conditions specified in the CoC, the TS, and the NRC's regulations, will meet the requirements of 10 CFR part 72; therefore, adequate protection of public health and safety will continue to be reasonably assured. This direct final rule changes the TN Americas LLC, NUHOMS® EOS Dry Spent Fuel Storage System listing in § 72.214 by adding Amendment No. 5 to CoC No. 1042. The amendment consists of the changes previously described, as set forth in the referenced CoC and TS. The referenced TS are identified in the preliminary safety evaluation report. When this direct final rule becomes effective, persons who hold a general license under § 72.210 may, consistent with the license conditions under § 72.212, load spent nuclear fuel into TN Americas LLC, NUHOMS® EOS Dry Spent Fuel Storage System casks that meet the criteria of Amendment No. 5 to CoC No. 1042.

V. Voluntary Consensus Standards

The National Technology Transfer and Advancement Act of 1995 (Pub. L. 104-113) requires that Federal agencies use technical standards that are developed or adopted by voluntary consensus standards bodies unless the use of such a standard is inconsistent with applicable law or otherwise impractical. In this direct final rule, the NRC revises the TN Americas LLC, NUHOMS® EOS Dry Spent Fuel Storage System design listed in § 72.214, “List of approved spent fuel storage casks.” This action does not constitute the establishment of a standard that contains generally applicable requirements; therefore, the National Technology Transfer and Advancement Act is not applicable.

VI. Agreement State Compatibility

Under the “Agreement State Program Policy Statement” approved by the Commission on October 2, 2017, and published in the Federal Register on October 18, 2017 (82 FR 48535), this rule is classified as Compatibility Category NRC—Areas of Exclusive NRC Regulatory Authority. The NRC program elements in this category are those that relate directly to areas of regulation reserved to the NRC by the Atomic Energy Act of 1954, as amended, or the provisions of 10 CFR chapter I. Therefore, compatibility is not required for program elements in this category.

VII. Plain Writing

The Plain Writing Act of 2010 (Pub. L. 111-274) requires Federal agencies to write documents in a clear, concise, and well-organized manner. The NRC has written this document to be consistent with the Plain Writing Act as well as the Presidential Memorandum, “Plain Language in Government Writing,” published June 10, 1998 (63 FR 31885). The NRC requests comment on this document with respect to the clarity and effectiveness of the language used.

VIII. Environmental Assessment and Finding of No Significant Impact

Under the National Environmental Policy Act of 1969, as amended, and the NRC's regulations in 10 CFR part 51, “Environmental Protection Regulations for Domestic Licensing and Related Regulatory Functions,” the NRC has determined that this direct final rule, if adopted, would not be a major Federal action significantly affecting the quality of the human environment and, therefore, an environmental impact statement is not required. The NRC has made a finding of no significant impact on the basis of this environmental assessment. This environmental assessment and finding of no significant impact can be tracked with identification number NEPA ID EAXX-429-00-000-1743148474.

A. The Action

The action is to amend § 72.214 to change the TN Americas LLC, NUHOMS® EOS Dry Spent Fuel Storage System listing within the “List of approved spent fuel storage casks” to include Amendment No. 5 to CoC No. 1042.

B. The Need for the Action

This direct final rule amends the CoC for the TN Americas LLC, NUHOMS® EOS Dry Spent Fuel Storage System design within the list of approved spent fuel storage casks to allow power reactor licensees to store spent fuel at reactor sites in casks with the approved modifications under a general license. Specifically, Amendment No. 5 adds a new heat load zone configuration (HLZC 14) for the EOS-37PTH canister, increasing the maximum heat load to 54 kW per DSC for storage in the EOS-HSM and transfer using EOS-TC125/135; clarifies acceptance criteria for minor surface imperfections on HSLA basket plates in the UFSAR; and makes editorial updates to the UFSAR and TS revisions to align with Amendment No. 4, improve readability, and correct code references.

C. Environmental Impacts of the Action

On July 18,1990 (55 FR 29181), the NRC issued an amendment to 10 CFR part 72 to provide for the storage of spent fuel under a general license in cask designs approved by the NRC. The potential environmental impact of using NRC-approved storage casks was analyzed in the environmental assessment for the 1990 final rule. The environmental assessment for this Amendment No. 5 tiers off of the environmental assessment for the July 18, 1990, final rule. Tiering on past environmental assessments is a standard process under the National Environmental Policy Act of 1969, as amended.

The TN Americas LLC, NUHOMS® EOS Dry Spent Fuel Storage System is designed to mitigate the effects of design basis accidents that could occur during storage. Design basis accidents account for human-induced events and the most severe natural phenomena reported for the site and surrounding area. Postulated accidents analyzed for an independent spent fuel storage installation, the type of facility at which a holder of a power reactor operating license would store spent fuel in casks in accordance with 10 CFR part 72, can include tornado winds and tornado-generated missiles, a design basis earthquake, a design basis flood, an accidental cask drop, lightning effects, fire, explosions, and other incidents.

This amendment does not reflect a significant change in design or fabrication of the cask. Because there are no significant design or process changes, any resulting occupational exposure or offsite dose rates from the implementation of Amendment No. 5 would remain well within the 10 CFR part 20 limits.

The NRC has also determined that the design of the cask as modified by this rule would continue to maintain confinement, shielding, and criticality control in the event of an accident. Therefore, the proposed changes will not result in any radiological or non-radiological environmental impacts that significantly differ from the environmental impacts evaluated in the environmental assessment supporting the July 18, 1990, final rule. There will be no significant change in the types or significant revisions in the amounts of any effluent released, no significant increase in the individual or cumulative radiation exposures, and no significant increase in the potential for, or consequences from, radiological accidents. The NRC documented its safety findings in the preliminary safety evaluation report.

D. Alternative to the Action

The alternative to this action is to deny approval of Amendment No. 5 and not issue the direct final rule. Consequently, any 10 CFR part 72 general licensee that seeks to load spent nuclear fuel into the TN Americas LLC, NUHOMS® EOS Dry Spent Fuel Storage System in accordance with the changes described in proposed Amendment No. 5 would have to request an exemption from the requirements of §§ 72.212 and 72.214. Under this alternative, interested licensees would have to prepare, and the NRC would have to review, a separate exemption request, thereby increasing the administrative burden upon the NRC and the costs to each licensee. The environmental impacts would be the same as the proposed action.

E. Alternative Use of Resources

Approval of Amendment No. 5 to CoC No. 1042 would result in no irreversible and irretrievable commitments of Federal resources.

F. Agencies and Persons Contacted

No agencies or persons outside the NRC were contacted in connection with the preparation of this environmental assessment.

G. Finding of No Significant Impact

The environmental impacts of the action have been reviewed under the requirements in the National Environmental Policy Act of 1969, as amended, and the NRC's regulations in subpart A of 10 CFR part 51, “Environmental Protection Regulations for Domestic Licensing and Related Regulatory Functions.” Based on the foregoing environmental assessment, the NRC concludes that this direct final rule, “List of Approved Spent Fuel Storage Casks: TN Americas LLC, NUHOMS® EOS Dry Spent Fuel Storage System, Certificate of Compliance No. 1042, Amendment No. 5,” will not have a significant effect on the human environment. Therefore, the NRC has determined that an environmental impact statement is not necessary for this direct final rule.

IX. Paperwork Reduction Act Statement

This direct final rule does not contain any new or amended collections of information subject to the Paperwork Reduction Act of 1995 (44 U.S.C. 3501 et seq.). Existing collections of information were approved by the Office of Management and Budget, approval number 3150-0132.

Public Protection Notification

The NRC may not conduct or sponsor, and a person is not required to respond to, a request for information or an information collection requirement unless the requesting document displays a currently valid Office of Management and Budget control number.

X. Regulatory Flexibility Certification

Under the Regulatory Flexibility Act of 1980 (5 U.S.C. 605(b)), the NRC certifies that this direct final rule will not, if issued, have a significant economic impact on a substantial number of small entities. This direct final rule affects only nuclear power plant licensees and TN Americas LLC. These entities do not fall within the scope of the definition of small entities set forth in the Regulatory Flexibility Act or the size standards established by the NRC (§ 2.810).

XI. Regulatory Analysis

On July 18, 1990 (55 FR 29181), the NRC issued an amendment to 10 CFR part 72 to provide for the storage of spent nuclear fuel under a general license in cask designs approved by the NRC. Any nuclear power reactor licensee can use NRC-approved cask designs to store spent nuclear fuel if (1) it notifies the NRC in advance; (2) the spent fuel is stored under the conditions specified in the cask's CoC; and (3) the conditions of the general license are met. A list of NRC-approved cask designs is contained in § 72.214. On March 24, 2017 (82 FR 14987), the NRC issued an amendment to 10 CFR part 72 that approved the TN Americas LLC, NUHOMS® EOS Dry Spent Fuel Storage System by adding it to the list of NRC-approved cask designs in § 72.214.

On February 26, 2025, as supplemented on August 28, 2025, TN Americas LLC requested that the NRC amend CoC No. 1042 for the NUHOMS® EOS system submitted a request to amend the NUHOMS® EOS Dry Spent Fuel Storage System as described in section IV, “Discussion of Changes,” of this document.

The alternative to this action is to withhold approval of Amendment No. 5 and to require any 10 CFR part 72 general licensee seeking to load spent nuclear fuel into TN Americas LLC, NUHOMS® EOS Dry Spent Fuel Storage System under the changes described in Amendment No. 5 to request an exemption from the requirements of §§ 72.212 and 72.214. Under this alternative, each interested 10 CFR part 72 licensee would have to prepare, and the NRC would have to review a separate exemption request, thereby increasing the administrative burden upon the NRC and the costs to each licensee.

Approval of this direct final rule is consistent with previous NRC actions. Further, as documented in the preliminary safety evaluation report and environmental assessment, this direct final rule will have no adverse effect on public health and safety or the environment. This direct final rule has no significant identifiable impact or benefit on other government agencies. Based on this regulatory analysis, the NRC concludes that the requirements of this direct final rule are commensurate with the NRC's responsibilities for public health and safety and the common defense and security. No other available alternative is believed to be as satisfactory; therefore, this action is justified.

XII. Backfitting and Issue Finality

The NRC has determined that this direct final rule does not constitute backfitting under § 72.62. This direct final rule adds an amendment to CoC No. 1042 for the TN Americas LLC, NUHOMS® EOS Dry Spent Fuel Storage System, as currently listed in § 72.214. The amendment consists of the changes in Amendment No. 5 previously described, as set forth in the amended CoC and TS.

Amendment No. 5 to CoC No. 1042 for the TN Americas LLC, NUHOMS® EOS Dry Spent Fuel Storage System was initiated by TN Americas LLC and was not submitted in response to new NRC requirements or an NRC request for amendment. CoC holders like TN Americas LLC are not within the scope of the backfit rule in § 72.62 because they do not hold a 10 CFR part 72 license. Additionally, Amendment No. 5 applies only to new casks fabricated and used under Amendment No. 5. These changes do not affect existing users of TN Americas LLC, NUHOMS® EOS Dry Spent Fuel Storage System, and the previous amendments continue to be effective for existing users. Although current users of this storage system may comply with the new requirements in Amendment No. 5, this would be a voluntary decision on the part of current users. Therefore, Amendment No. 5 does not meet the definition of backfitting in § 72.62.

For these reasons, Amendment No. 5 to CoC No. 1042 does not constitute backfitting under § 72.62.

XIII. Regulatory Planning and Review

Executive Order (E.O.) 12866, as amended by E.O. 14215, provides that the Office of Information and Regulatory Affairs (OIRA) will determine whether a regulatory action is significant as defined by E.O. 12866 and will review significant regulatory actions. OIRA determined that this direct final rule is not a significant regulatory action under E.O. 12866.

XIV. Congressional Review Act

This direct final rule is not a rule as defined in the Congressional Review Act.

XV. Availability of Documents

The documents identified in the following table are available to interested persons as indicated.

Document | ADAMS accession No./ Federal Register citation
Proposed Certificate of Compliance
“Proposed Certificate of Compliance No.1042—EOS Amendment No. 5 | ML25231A254
Preliminary Safety Evaluation Report
Preliminary Safety Evaluation Report for Certificate of Compliance No. 1042, Amendment No. 5 | ML25231A256
Proposed Technical Specifications for CoC No. 1042, Amendment No. 5 Rev 0 | ML25231A255
Other Documents
Final Rule, List of Approved Spent Fuel Storage Casks: TN Americas LLC, NUHOMS® EOS Dry Spent Fuel Storage System, Certificate of Compliance No. 1042,” published March 24, 2017 | 82 FR 14987
Final Rule, “Storage of Spent Fuel in NRC-Approved Storage Casks at Power Reactor Sites,” published July 18, 1990 | 55 FR 29181
Presidential Memorandum, “Plain Language in Government Writing,” published June 10, 1998 | 63 FR 31885

The NRC may post materials related to this document, including public comments, on the Federal rulemaking website at https://www.regulations.gov under Docket ID NRC-2025-1369. In addition, the Federal rulemaking website allows members of the public to receive alerts when changes or additions occur in a docket folder. To subscribe: (1) navigate to the docket folder NRC-2025-1369; (2) click the “Subscribe” link; and (3) enter an email address and click on the “Subscribe” link.

List of Subjects in 10 CFR Part 72

Administrative practice and procedure, Hazardous waste, Indians, Intergovernmental relations, Nuclear energy, Penalties, Radiation protection, Reporting and recordkeeping requirements, Security measures, Spent fuel, Whistleblowing.

For the reasons set out in the preamble and under the authority of the Atomic Energy Act of 1954, as amended; the Energy Reorganization Act of 1974, as amended; the Nuclear Waste Policy Act of 1982, as amended; and 5 U.S.C. 552 and 553; the NRC is adopting the following amendments to 10 CFR part 72:

PART 72—LICENSING REQUIREMENTS FOR THE INDEPENDENT STORAGE OF SPENT NUCLEAR FUEL, HIGH-LEVEL RADIOACTIVE WASTE, AND REACTOR-RELATED GREATER THAN CLASS C WASTE

1. The authority citation for part 72 continues to read as follows:

Authority: Atomic Energy Act of 1954, secs. 51, 53, 57, 62, 63, 65, 69, 81, 161, 182, 183, 184, 186, 187, 189, 223, 234, 274 (42 U.S.C. 2071, 2073, 2077, 2092, 2093, 2095, 2099, 2111, 2201, 2210e, 2232, 2233, 2234, 2236, 2237, 2238, 2273, 2282, 2021); Energy Reorganization Act of 1974, secs. 201, 202, 206, 211 (42 U.S.C. 5841, 5842, 5846, 5851); National Environmental Policy Act of 1969 (42 U.S.C. 4332); Nuclear Waste Policy Act of 1982, secs. 117(a), 132, 133, 134, 135, 137, 141, 145(g), 148, 218(a) (42 U.S.C. 10137(a), 10152, 10153, 10154, 10155, 10157, 10161, 10165(g), 10168, 10198(a)); 44 U.S.C. 3504 note.

2. In § 72.214, Certificate of Compliance No. 1042 is revised to read as follows:

§ 72.214 List of approved spent fuel storage casks.

* * * * *

Certificate Number: 1042.

Initial Certificate Effective Date: June 7, 2017.

Amendment Number 1 Effective Date: June 17, 2020.

Amendment Number 2 Effective Date: October 26, 2021.

Amendment Number 3 Effective Date: July 17, 2023.

Amendment Number 4 Effective Date: October 14, 2025

Amendment Number 5 Effective Date: April 13, 2026.

SAR Submitted by: TN Americas LLC.

SAR Title: Final Safety Analysis Report for the NUHOMS® EOS Dry Spent Fuel Storage System.

Docket Number: 72-1042.

Certificate Expiration Date: June 7, 2037.

Model Number: EOS-37PTH, EOS-89BTH, 61BTH Type 2.

* * * * *

Dated: January 15, 2026.
For the Nuclear Regulatory Commission.
Michael King,
Executive Director for Operations.

[FR Doc. 2026-01647 Filed 1-27-26; 8:45 am]

BILLING CODE 7590-01-P